DEPARTMENT OF COMMERCE

Census Bureau

Proposed Information Collection; Comment Request; Generic Clearance for the 2010 Census Program for Evaluations and Experiments

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before November 24, 2008.

ADDRESSES: Direct all written comments to Diana Hynek, Departmental Paperwork Clearance officer, Department of Commerce, Room 6625, 14th and Constitution Avenue, NW., Washington, DC 20230 (or via the Internet at dHynek@doc.gov).

FOR FURTHER INFORMATION CONTACT: Requests for additional information or copies of the information collection instrument(s) and instructions should be directed to Jason Machowski, Bureau of the Census, HQ-3H470C, Washington, DC 20233; (301) 763-4173.

SUPPLEMENTARY INFORMATION:

I. Abstract

The Census Bureau will conduct the 2010 Census Program for Evaluations and Experiments (CPEX) to evaluate the current census and to build a foundation on which to make early and informed decisions for planning the next one in 2020. Program planners designed CPEX to measure the effectiveness of the 2010 Census design (including operations, systems, and processes), in addition to determining how the design impacts data quality.

The 2010 CPEX consists of assessments, experiments, and evaluations. Assessments document final volumes, rates, and costs for individual operations or processes; they do not involve unique data collections, and therefore will not be submitted for clearance. Experiments are quantitative studies that occur during a decennial census. The decennial environment is required for experimental studies because it provides the best conditions to learn about the value of new methods and to accurately measure their effectiveness and feasibility. Finally, evaluation studies analyze, interpret, and synthesize the effectiveness of census components, and their impact on data quality and coverage. Evaluation studies use data collected from census operations, processes, systems, and auxiliary data collections.

The 2010 CPEX program will operate as a generic clearance. This public notice specifically accounts for data collection plans for four experiments and three evaluations. The balance of evaluations that potentially require independent data collections in the 2010 CPEX will be submitted to the Office of Management and Budget (OMB) on a flow basis, as more detail of the activities are known. The estimated number of respondents and annual reporting hours being requested cover both the known and yet to be submitted experiments and evaluations.

The Census Bureau plans four experimental designs: Alternative Questionnaire Experiment (AQE); 2010 Nonresponse Followup (NRFU) Contact Strategy Experiment; 2010 Deadline Messaging (DM) Experiment, and 2010 Privacy Notification (PN) Experiment. Most of the experimental designs have been developed to test more than one research objective, resulting in multiple treatments per study. All experimental questionnaires received will be treated as the respondents' official census form. This public notice also includes three evaluations: 2010 AQE Reinterview Evaluation; 2010 Content Reinterview Evaluation; and 2010 Alternative Group Quarters (GQ) Questionnaire Evaluation.

Alternative Questionnaire Experiment (AQE)

The AQE has several objectives. The overall goal of the study is to continue efforts to develop a user-friendly mailout questionnaire that can be accurately completed by respondents. This experiment will test various designs on how the Census Bureau asks respondents to provide their data on the paper form. A large focus of the 2010 AQE is on methods to improve the completeness and accuracy for reporting of race and Hispanic origin. Four panels will test the performance of a combined race and Hispanic origin question (these data are currently collected by asking two separate questions: one on race and one on Hispanic origin). In addition to testing a combined question on race and Hispanic origin, seven panels will be devoted to potential refinements of the current separate-question approach, for a total of eleven panels devoted to race and Hispanic origin research. Other topics covered by the AQE include an examination of true residence status by collecting additional information on the initial census return pertaining to household coverage (one panel) and an examination of the effectiveness of all questionnaire changes made since Census 2000 (one panel). The Census Bureau accomplishes the latter by administering the Census 2000 form to a subset of the 2010 universe.

The AQE comprises fourteen panels, including a control panel. The estimated sample size for each panel dealing with race and Hispanic origin is 30,000. The estimated sample size of the panel examining alternative designs of the undercount (and overcount) questions in the mail form, to effectively identify census coverage errors for follow-up is 30,000. The estimated sample size of the panel examining combined effects on the data of all questionnaire changes made in the 2010 mail questionnaire is 10,000. For all panels, a national sample of households will be selected with a stratified sample design. Sample households will receive one of thirteen experimental forms instead of the standard 2010 Census form. For the control panel, the estimated sample size is 30,000. These households will receive the standard 2010 Census form.

The performance of the experimental treatments will be measured in two ways. First, researchers will compare item nonresponse statistics and overall mail response rates to the 2010 Census “control” panel (i.e., the standard 2010 census form which excludes experimental factors). The statistics include mail response rate, data item nonresponse rates, data item distributions, “correctness” of the household count question, and the rate at which respondents incorrectly skip questions that they should answer. Second, researchers will analyze findings from the AQE Reinterview Evaluation described later in this document.

2010 Nonresponse Followup (NRFU) Contact Strategy Experiment

The primary objective of this experiment is to understand the effects of changing the number of NRFU contacts in a census environment. This study has the potential to provide large cost savings through a possible reduction in NRFU contacts. In recent decennial censuses, enumerators have attempted six contacts. The goal is to determine whether cost savings can be realized by reducing the number of NRFU contacts, while maintaining the same level of data quality.

The 2010 NRFU Contact Strategy Experiment comprises three panels (including a control panel), with an estimated sample size of 40,000 each, for an estimated total sample of 120,000. Three Local Census Offices (LCOs) will be chosen. In each of these three, one field office supervisor district (FOSD) will be selected for this experiment. Within the selected FOSDs, the panels (that is, number of contacts) will be assigned to whole crewleader districts (CLDs). Panels are split into two enumerator form treatments (allowing a maximum four contacts, or a maximum five contacts) and a “control” (that is, a maximum of six contacts). There are up to eight CLDs in each FOSD. All enumerators in a particular CLD will use the same enumerator form.

2010 Deadline Messaging (DM) Experiment

The goal of the 2010 DM Experiment is to assess alternatives for increasing mail response by including a deadline message for questionnaire return on various mailing pieces in addition to implementing a delayed mailing schedule (building on previously successful testing). The Deadline Messaging experiment tests three different messages, which are implemented both in combination with the compressed schedule and without the compressed schedule. The experiment also implements the standard mailing materials (no deadline message) sent on the compressed schedule, for a total of seven treatments. The treatments are as follows: Deadline Messaging 1: Tests a “mild” set of deadline messages on the advance letter, initial questionnaire cover letter, and outgoing envelope of the initial questionnaire package (i.e., uses a mild set of messages that simply indicates the date that the form should be mailed back by); Deadline Messaging 2: Tests a set of deadline messages with “progressive urgency” on the advance letter, initial questionnaire cover letter and outgoing envelope of the initial questionnaire package (i.e., uses a stricter and progressively more urgent message wording that emphasizes the “deadline” date and also provides a reminder that census response is required by law); Deadline Messaging 3: Tests a “NRFU motivation” set of deadline messages on the advance letter, initial questionnaire cover letter, and outgoing envelope of the initial questionnaire package (i.e., people are reminded about the inconvenience of interviewers coming to their home); Compressed Schedule: 2010 Census standard materials mailed on a “compressed schedule”. That is, the advance letter, initial questionnaire package and reminder postcard are all slightly delayed, to reach the respondent closer to Census Day; and the three combination treatments. A control panel will receive the standard set of 2010 mailing materials sent on the standard mailing schedule. The estimated sample size for all panels is 10,000 each, for a total of 80,000.

2010 Privacy Notification (PN) Experiment

The goal of the 2010 PN Experiment is to improve alternatives for increasing mail response by testing alternative presentation and placement of privacy messages in the initial questionnaire cover letter, reminder postcards, and envelopes. A sample of households will receive the alternative wording included on the cover letter that arrives with their 2010 Census questionnaire in one of two treatments: Privacy 1: Tests an added administrative records use message on the initial questionnaire cover letter; and Privacy 2: Tests an added administrative records use message and alternative statistical purpose message on the initial questionnaire cover letter. A control panel will receive the standard set of 2010 mailing materials. The estimated sample size is 10,000 for each panel, for a total of 20,000. (Note: The control panel for the PN Experiment is shared with the control panel for the DM Experiment. Therefore the sample size for it is not shown here to avoid counting it twice.)

2010 AQE Reinterview Evaluation and 2010 Content Reinterview Evaluation

While they are technically two separate evaluations, the Census Bureau will combine the 2010 AQE Reinterview Evaluation and the 2010 Content Reinterview Evaluation into one statistical design for purposes of operational efficiency. The overall sample for the 2010 AQE Reinterview Evaluation and the 2010 Content Reinterview Evaluation is 58,500. As planners finalize the sample design for these evaluations, the Census Bureau will divide the 58,500 into three subsamples. The Census Bureau will use the first two subsamples for the 2010 AQE Reinterview Evaluation and the remaining subsample for the 2010 Content Reinterview Evaluation.

In addition to the eleven panels devoted to race and Hispanic origin research, the Census Bureau will collect data via a follow-up reinterview from a subset of AQE respondents that focuses on the race and Hispanic origin questions. This reinterview will ask probing questions in addition to the various race and Hispanic origin treatments tested in the AQE. The data obtained in the probing reinterview will be critical to producing bias measures for the experimental AQE race and Hispanic origin questions. As mentioned above, the AQE Reinterview Evaluation will be administered to two subsamples. The first subsample will ask probing questions on the design of separate race and Hispanic Origin questions, while the second subsample will ask probing questions on the design of a combined race and Hispanic Origin question.

The Census Bureau will also conduct a Content Reinterview Evaluation. The Census Bureau conducts this evaluation to measure response error (including an examination of the reliability and accuracy of responses to the census questionnaire). In short, the reinterview consists of asking respondents the same set of questions on the Decennial Census Short Form (D-1) to determine if questions are worded sufficiently to produce consistent responses.

2010 Alternative Group Quarters (GQ) Questionnaire Evaluation

By collecting an alternative address for all GQ respondents, this test examines additional ways of correcting duplicates and other erroneous enumerations in the Census without a costly follow-up operation. The address, previously asked of only GQ respondents who are allowed to claim a “usual home elsewhere,” would be asked of everyone. Results will be compared against the “control,” which consists of the standard 2010 Census individual GQ forms. This test is comprised of one treatment with an estimated sample size of 2,500. For this test, researchers will select whole GQs rather than selecting a subsample of residents from many GQs. For example, an entire college dormitory would be in sample as opposed to sampling residents of the dormitory who stay in rooms ending with an even number.

II. Method of Collection

For experiments, the information will be collected through a variety of forms (delivered by mail or an enumerator) or face-to-face interviews. For evaluations, the information will be collected during personal visits by enumerators using paper forms or telephone interviews.

The range of methods that may be needed for the balance of evaluations include customer satisfaction surveys, telephone surveys, field personal visits, and/or focus groups with respondents. The detailed methods will be provided in the separate OMB clearance submissions.

III. Data

OMB Control Number: None.

Form Numbers: The forms are too numerous to list here (if needed, see contact information above).

Type of Review: Regular submission.

Affected Public: Individuals or households.

Estimated Number of Respondents: 700,000.

Estimated Time per Response: 10 minutes.

Estimated Total Annual Burden Hours: 10,000. (Please note that this only reflects burden hours that are in addition to what is already accounted for in the 2010 Census forms clearance package. Experimental forms replace the official 2010 Census for households in the experimental sample).

Estimated Total Annual Cost: $0.

Respondent's Obligation: Mandatory.

Legal Authority: Title 13 U.S.C. 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 19, 2008.
Gwellnar Banks,
Management Analyst, Office of the Chief Information Officer.

[FR Doc. E8-22417 Filed 9-23-08; 8:45 am]

BILLING CODE 3510-07-P